DEPARTMENT OF DEFENSE

Department of the Army Corps of Engineers

Notice of Intent To Prepare an Environmental Impact Statement for Commercial Dredging of Construction Aggregate From the Kansas River in the State of Kansas

AGENCY: U.S. Army Corps of Engineers, DoD.

ACTION: Notice of intent.

SUMMARY: The U.S. Army Corps of Engineers (COE) is preparing an Environmental Impact Statement (EIS) to analyze the direct, indirect, and cumulative effects of commercial dredging of sand and gravel from the Kansas River in the State of Kansas. The proposed dredging will occur within portions of the river between the mouth of the Kansas River and river mile 170 at the confluence of the Kansas, Republican and Smokey Hill Rivers. Department of the Army (DA) authorization under Section 10 of the River and Harbors Act is required for the work to obtain sand and gravel materials from the Kansas River by hydraulic suction dredging operations. Commercial dredging in the Kansas River has occurred for more than 100 years but the quantity of sand and gravel materials annually withdrawn from the river has increased over time. The existing permits for dredging, last issued in 2007, allowed for a potential annual total of 3,150,000 tons of materials to be extracted from the Kansas River. The current DA permits originally scheduled to expire on December 31, 2012 were indefinitely extended until after completion of an EIS. Five applicants are currently requesting to extract 1,900,000 tons of material per year from the river at eight locations.

DATES: A scoping meeting will be held: August 4, 2015, 4:00 to 7:00 p.m. in Lawrence, Kansas.

ADDRESSES: The scoping meeting location is: Lawrence Public Library Auditorium, 707 Vermont Street, Lawrence, Kansas.

FOR FURTHER INFORMATION CONTACT: Questions and comments regarding the proposed action and EIS should be addressed to Mr. Brian Donahue, Regulatory Project Manager, U.S. Army Corps of Engineers, 601 East 12th Street, Room 402, Kansas City, MO 64106; (816) 389-3703; brian.t.donahue@usace.army.mil. For special needs (visual or hearing impaired, Spanish translation, etc.) requests during the scoping meetings, please call Brian Donahue by July 20, 2015.

SUPPLEMENTARY INFORMATION: The COE will be conducting a public scoping meeting at the location above to describe the proposed activity, preliminary alternatives, the National Environmental Policy Act process and to solicit input on the issues and alternatives to be evaluated and other related matters. Written comments for scoping will be accepted until September 15, 2015. The COE has prepared a scoping announcement to familiarize agencies, the public and interested organizations with the proposed Project and potential environmental issues that may be involved. The scoping announcement includes a list of the dredgers' requested annual extraction tonnage and the requested dredging reaches. Copies of the scoping announcement will be available at the public scoping meetings or can be requested by mail.

The permit applicants include the four following currently authorized dredgers: Holliday Sand and Gravel Company, LLC, (Lenexa, Kansas); Masters Dredging, (Lawrence, Kansas); Kaw Valley Companies, Inc. (Kansas City, Kansas); and Builders Choice Aggregates, (Topeka, Kansas). One permit applicant not currently authorized to dredge but seeking a permit is LBB, LLC (Topeka, Kansas). The final EIS would also apply to future applications for similar dredging operations on the Kansas River.

The COE has documented degradation or down-cutting of the river bed in some areas where dredging activity has been concentrated. Bed degradation may affect water intake structures, initiate tributary head cuts, promote bank erosion or levee instability, undermine pipelines and bridge piers, increase encroachment of the high bank, affect aquatic habitat and create navigation hazards.

The EIS will be prepared according to the COE's procedures for implementing the National Environmental Policy Act of 1969, as amended, 42 U.S.C. 4332(2)(c), and consistent with the COE's policy to facilitate public understanding and review of agency proposals. As part of the EIS process, a full range of reasonable alternatives including the proposed dredging and no dredging will be evaluated.

The COE will invite the U.S. Environmental Protection Agency, the U.S. Fish and Wildlife Service, the U.S. Geologic Survey, the Kansas Department of Health and Environment, the Kansas State Historical Society, the Kansas Department of Wildlife, Parks and Tourism and the Kansas Geologic Survey to be contributing agencies in the formulation of the EIS.

Brian Donahue,
Regulatory Project Manager, Regulatory Branch.

[FR Doc. 2015-17355 Filed 7-14-15; 8:45 am]

BILLING CODE 3720-58-P